DEPARTMENT OF TRANSPORTATION

National Highway Traffic Safety Administration

[Docket No. NHTSA-2018-0011; Notice 1]

Notice of Receipt of Petition for Decision That Nonconforming Model Year 2013 Porsche Panamera Passenger Cars Are Eligible for Importation

AGENCY: National Highway Traffic Safety Administration (NHTSA), Department of Transportation (DOT).

ACTION: Receipt of petition.

SUMMARY: This document announces receipt by the National Highway Traffic Safety Administration (NHTSA) of a petition for a decision that certain model year (MY) 2013 Porsche Panamera passenger cars (PCs) that were not originally manufactured to comply with all applicable Federal motor vehicle safety standards (FMVSS) are eligible for importation into the United States because they are substantially similar to vehicles that were originally manufactured for sale in the United States and that were certified by their manufacturer as complying with the safety standards (the U.S.-certified version of the MY 2013 Porsche Panamera PCs) and are capable of being readily altered to conform to the standards.

DATES: The closing date for comments on the petition is August 23, 2018.

ADDRESSES: Interested persons are invited to submit written data, views, and arguments on this petition. Comments must refer to the docket and notice number cited in the title of this notice and may be submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

FOR FURTHER INFORMATION CONTACT: George Stevens, Office of Vehicle Safety Compliance, NHTSA, telephone (202) 366-5308.

SUPPLEMENTARY INFORMATION:

I. History: Under 49 U.S.C. 30141(a)(1)(A), a motor vehicle that was not originally manufactured to conform to all applicable FMVSS (49 CFR part 571) shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7 Processing of Petitions, NHTSA publishes notice in the Federal Register of each petition that it receives, and affords interested persons an opportunity to comment on the petition. At the close of the comment period, NHTSA decides, on the basis of the petition and any comments that it has received, whether the vehicle is eligible for importation. The agency then publishes this decision in the Federal Register.

II. Summary of Petition: J.K. Technologies, LLC (JK), of Baltimore, Maryland (Registered Importer R-90-006) has petitioned NHTSA to decide whether nonconforming MY 2013 Porsche Panamera PCs are eligible for importation into the United States. The vehicles that JK believes are substantially similar are MY 2013 Porsche Panamera PCs manufactured for sale in the United States, and certified by their manufacturer as conforming to all applicable FMVSS.

The petitioner submitted information with its petition intended to demonstrate that the subject non-U.S.-certified vehicles as originally manufactured, conform to many applicable FMVSS in the same manner as their U.S.-certified counterparts, or are capable of being readily altered to conform to those standards.

Specifically, the petitioner claims that the non-U.S.-certified MY 2013 Porsche Panamera PCs, as originally manufactured, conform to: Standard Nos. 102 Transmission Shift Position Sequence, Starter Interlock, and Transmission Braking Effect, 103 Windshield Defrosting and Defogging Systems, 104 Windshield Wiping and Washing Systems, 106 Brake Hoses, 113 Hood Latch System, 114 Theft Protection, 116 Motor Vehicle Brake Fluids, 118 Power-Operated Window, Partition, and Roof Panel Systems, 124 Accelerator Control Systems, 126 Electronic Stability Control Systems for Light Vehicles, 135 Light Vehicle Brake Systems, 138 Tire Pressure Monitoring Systems, 201 Occupant Protection in Interior Impact, 202a Head Restraints, 204 Steering Control Rearward Displacement, 205 Glazing Materials, 206 Door Locks and Door Retention Components, 207 Seating Systems, 210 Seat Belt Assembly Anchorages, 212 Windshield Mounting, 214 Side Impact Protection, 216 Roof Crush Resistance, 219 Windshield Zone Intrusion, 225 Child Restraint Anchorage Systems, and 302 Flammability of Interior Materials.

The petitioner also contends that the subject non-U.S.-certified vehicles are capable of being readily altered to meet the following standards in the manners indicated:

Standard No. 101 Controls and Displays: Replacement of the instrument cluster with the U.S.-model component and reprogramming of its software as described in the petition.

Standard No. 108 Lamps, Reflective Devices and Associated Equipment: Replacement of the headlamps, taillamps, and front and rear side markers with U.S.-model components. Reprogramming of the vehicle's software must also be performed to activate these systems.

Standard No. 110 Tire Selection and Rims and Motor Home/Recreation Vehicle Trailer Load Carrying Capacity Information for Motor Vehicles with a GVWR of 4,536 Kilograms (10,000 Pounds) or Less: Installation of the required tire information placard.

Standard No. 111 Rear Visibility: Replacement of the passenger side mirror with the U.S.-model, or inscription of the required warning statement on the face of the existing mirror.

Standard No. 208 Occupant Crash Protection: Replacement of the seatbelt assemblies and the air bag control unit. In addition, replacement of the front passenger side seat weight sensing system—including the sensor mat and seat cushion, airbag warning telltale, seat wiring harness, and sun visor. After installation of these components, the vehicle's software must be updated and correct installation and operation confirmed using an appropriate diagnostic programming tool as described in the petition. All air bag warning labels and owner manual inserts must be inspected for compliance with the requirements in the standard and added or replaced with U.S.-model versions if not already present on the vehicle.

Standard No. 209 Seat Belt Assemblies: Replacement of seat belt assemblies with U.S.-certified components as previously stated under FMVSS No. 208.

Standard No. 301 Fuel System Integrity: During installation of U.S.-model components and software as described in the petition to meet the requirements of the Environmental Protection Agency (EPA), the requirements of this standard will be complied with and maintained.

The petitioner additionally states that a vehicle identification plate must be affixed to the vehicle near the left windshield pillar to meet the requirements of 49 CFR part 565.

III. Comments: All comments and supporting materials received before the close of business on the closing date indicated above will be filed in the docket and considered. To the extent possible, comments filed after the closing date will also be considered to the fullest extent possible and available for examination in the docket at the above addresses.

Once the petition is granted or denied, notice of the decision will be published in the Federal Register pursuant to the authority indicated at the end of this notice.

This notice of receipt of the subject petition does not represent any agency decision or other exercise of judgment concerning the merits of the petition. Notice of final action on the petition will be published in the Federal Register pursuant to the authority indicated below.

Authority: 49 U.S.C. 30141(a)(1)(A), (a)(1)(B), and (b)(1); 49 CFR 593.7; delegation of authority at 49 CFR 1.95 and 501.8.

Michael A. Cole,
Acting Director, Office of Vehicle Safety Compliance.

[FR Doc. 2018-15776 Filed 7-23-18; 8:45 am]

BILLING CODE 4910-59-P